NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until December 5, 2003.

ADDRESSES: Interested parties are invited to submit written comments to NCUA Clearance Officer listed below:

Clearance Officer: Mr. Neil McNamara, National Credit Union Administration, 1775 Duke Street, Alexandria, Virginia 22314-3428, Fax No. 703-518-6669, e-mail: mcnamara@ncua.gov.

FOR FURTHER INFORMATION: Requests for additional information or a copy of the information collection request should be directed to Tracy Sumpter at the National Credit Union Administration, 1775 Duke Street, Alexandria, VA 22314-3428, or at (703) 518-6444.

SUPPLEMENTARY INFORMATION: Proposal for the following collection of information:

Title: Community Development Revolving Loan Program for Credit Union Application for Funds.

OMB Number: 3133-0138.

Form Number: None.

Type of Review: Reinstatement, with change, of a previously approved collection for which approval has expired.

Description: NCUA requests this information from credit unions to assess financial ability to repay the loans and to ensure that the funds are used to benefit the institution and the community it serves. The respondents are financial institutions that serve specific membership groups.

Estimated No. of Respondents/Recordkeepers: 28.

Estimated Burden Hours Per Response: 9 hours.

Frequency of Response: Reporting, on occasion and annually.

Estimated Total Annual Burden Hours: 252 hours.

Estimated Total Annual Cost: $0.

By the National Credit Union Administration Board on October 29, 2003.
Becky Baker,
Secretary of the Board.

[FR Doc. 03-27764 Filed 11-4-03; 8:45 am]

BILLING CODE 7535-01-P